ENVIRONMENTAL PROTECTION AGENCY

[FRL-9289-8]

Monthly Public Meetings of the Local Government Advisory Committee's Small Community Advisory Subcommittee

AGENCY: Environmental Protection Agency.

ACTION: Meeting notice.

SUMMARY: Under the Federal Advisory Committee Act, the U.S. Environmental Protection Agency's Local Government Advisory Committee's Small Community Advisory Subcommittee is meeting monthly, via teleconference calls, to discuss EPA regulation, policy, and the significant environmental issues that affect small communities and are relevant to its scope and charge as set forth by the Administrator of the EPA. These monthly teleconference meetings are an opportunity for Small Community Advisory Subcommittee members to work together and discuss relevant issues, as well as allow an opportunity for the public to listen and comment.

DATES: The meeting dates are:

1. April 14, 2011, 2:30 p.m. to 3:30 p.m., teleconference meeting.

2. May 12, 2011, 2:30 p.m. to 3:30 p.m., teleconference meeting.

3. June 9, 2011, 2:30 p.m. to 3:30 p.m., teleconference meeting.

4. July 14, 2011, 2:30 p.m. to 3:30 p.m., teleconference meeting.

ADDRESSES: The Small Community Advisory Subcommittee meetings will be held by teleconference on the dates provided above. The Committee's meeting summary will be available after the meeting online at: http://www.epa.gov/ocir/scas and can be obtained by written request to the DFO.

FOR FURTHER INFORMATION CONTACT: Paula Zampieri, the Designated Federal Officer for the Small Community Advisory Subcommittee at (202) 566-2496 or e-mail at zampieri.paula@epa.gov.

SUPPLEMENTARY INFORMATION: This is an open meeting and all interested persons are invited to participate. The Committee will allow time for public comment between 2:45 p.m. to 3:15 p.m. during the teleconference meeting dates listed above. Individuals or organizations wishing to address the Committee will be allowed a maximum of five minutes to present their point of view. Also, written comments should be submitted electronically to zampieri.paula@epa.gov. Please contact the Designated Federal Officer (DFO) at the number listed to schedule agenda time. Time will be allotted on a first come first serve basis, and the total period for comments may be extended if the number of requests for appearances requires it. Information on Services for Those with Disabilities: For inquiry and more detailed information on access or services for individuals with disabilities, please contact Paula Zampieri at (202) 566-2496 or zampieri.paula@epa.gov. To request accommodation of a disability, please request it 10 days prior to the meeting, to give EPA as much time as possible to process your request.

Dated: March 29, 2011.
Paula Zampieri,
Designated Federal Officer, EPA's Small Communities Advisory Subcommittee within the Local Government Advisory Committee.

[FR Doc. 2011-8017 Filed 4-4-11; 8:45 am]

BILLING CODE 6560-50-P